DEPARTMENT OF AGRICULTURE

Forest Service

Tahoe National Forest, California, Tahoe National Forest Motorized Travel Management Supplemental Draft EIS

AGENCY: Forest Service, USDA.

ACTION: Notice of intent to prepare a supplemental draft environmental impact statement.

SUMMARY: The Tahoe National Forest (TNF) will prepare a supplemental draft environmental impact statement to disclose the impacts associated with the following proposed actions:

1. Prohibition of Cross Country Travel: The prohibition of wheeled motor vehicle travel off designated National Forest Transportation System (NFTS) roads, NFTS motorized trails, and areas by the public except as allowed by permit or other authorization.

2. Additions to the NFTS: The addition of unauthorized routes as roads and trails to the NFTS by vehicle class and season of use.

3. Establishment of Motorized “Open Areas”: The establishment of motorized “Open Areas” by vehicle class and season of use.

4. Changes to the NFTS: Changes to the NFTS including Vehicle Class, Season of Use and/Reopening Maintenance Level 1 roads.

5. Amendments to the Forest Plan: The amendment of The Tahoe National Forest Land and Resource Management Plan to remove the November 1 to May 1 seasonal closure in the Sugar Pine area (Management Area 84 Humbug Sailor) on key winter deer range to improve motorized recreation opportunities.

DATES: Scoping is not required for supplemental draft environmental statements (40 CFR 1502.9(c)(4)). There was extensive public involvement in the development of the proposed action as published in the Federal Register April 11, 2007 and the Forest Service is not inviting additional comments at this time.

FOR FURTHER INFORMATION CONTACT: David Arrasmith, Tahoe National Forest, 631 Coyote Street, Nevada City, California 95959. Phone: (530) 478-6220. E-mail: darrasmith@fs.fed.us.

SUPPLEMENTARY INFORMATION:

Background

On April 11, 2007, the Forest Service published the “Proposed Action and Notice of Intent to Prepare an Environmental Impact Statement” (Federal Register Vol. 72/No. 69). The public comment period began on April 11, 2007, and ended May 14, 2007. Over 3,500 comments were received.

On October 3, 2008 the Forest Service published the “Notice of Availability” for the Tahoe National Forest Motorized Travel Management Draft EIS (Federal Register Vol. 73/No. 193). A two-month comment period was initially announced, and was expanded for an additional month based on public and elected official requests for a total of three months. The comment period ended December 26, 2008, but comments were accepted through December 29 due to a Presidential Proclamation to close the office on Friday, December 26. Over 7,000 letters, emails, map packets and other supporting materials were received.

In response to public comments received on the Draft Travel Management EIS (DEIS) the TNF undertook a comprehensive review of its existing NFTS. This review was done to respond to concerns expressed by the public during the comment period on the DEIS. Based on this review, the following corrections were made to the NFTS motorized recreation opportunities.

Summary of NFTS Mileage Before and After Corrections
Class of vehicle | DEIS mileage | SDEIS mileage | Change
Roads open to highway legal vehicles only | 629.3 | 616.7 | −12.6
Roads Open to all vehicles | 1,845.2 | 1,450.9 | −394.3
Trails open to high clearance trail vehicles only | 161.5 | 133.8 | −27.7
Trails open to ATV's and motorcycles only | 16.8 | 25.5 | +8.7
Trails open to motorcycles only | 147.6 | 168.8 | +21.2
Total | 2,800.4 | 2,395.7 | −404.7

The Forest Supervisor reviewed this information and, based on the interdisciplinary team's recommendation, determined the preparation of a supplemental DEIS was warranted so that the public has an opportunity to review the proposed action and alternatives in light of the corrections that have been made since the DEIS was circulated. These corrections will be incorporated into all of the alternatives in the Supplemental DEIS.

Purpose and Need for Action

The purpose and need for this project was previously described in the Notice of Intent published in the Federal Register Vol. 72/No. 69/Wednesday April 11, 2007. See the Notice of Intent for further details.

Proposed Action

The proposed action was previously identified in the Notice of Intent published in the Federal Register Vol. 72/No. 69/Wednesday April 11, 2007. See the Notice of Intent for further details.

Responsible Official

Tom Quinn, Forest Supervisor, Tahoe National Forest, 631 Coyote Street, Nevada City, California 95959.

Nature of Decision To Be Made

The responsible official will decide whether to adopt and implement the proposed action, an alternative to the proposed action, or take no action to make changes to the existing Tahoe National Forest Transportation System and prohibit cross country wheeled motorized vehicle travel by the public off the designated system.

Early Notice of Importance of Public Participation in Subsequent Environmental Review

The Supplemental Draft Environmental Impact Statement (SDEIS) is expected to be filed with the Environmental Protection Agency (EPA) and to be available for public review during February 2010. EPA will publish a notice of availability of the SDEIS in the Federal Register. The comment period on the SDEIS will extend 45 days from the date the EPA notice appears in the Federal Register. At that time, copies of the SDEIS will be distributed to interested and affected agencies, organizations, and members of the public for their review and comment. It is very important that those interested in the management of the Tahoe National Forest participate at that time.

The Final EIS is scheduled to be completed in June 2010. In the Final EIS, the Forest Service is required to respond to substantive comments received during the comment period that pertain to the environmental consequences discussed in the SDEIS and applicable laws, regulations, and policies considered in making the decision. Substantive comments are defined as “comments within the scope of the proposed action, specific to the proposed action, and have a direct relationship to the proposed action, and include supporting reasons for the responsible official to consider” (36 CFR 215.2). Submission of substantive comments is a prerequisite for eligibility to appeal under the 36 CFR part 215 regulations. The Forest Service believes, at this early stage, it is important to give reviewers notice of several court rulings related to public participation in the environmental review process. First, reviewers of an SDEIS must structure their participation in the environmental review of the proposal so that it is meaningful and alerts an agency to the reviewer's position and contentions. Vermont Yankee Nuclear Power Corp. v. NRDC, 435 U.S. 519, 553 (1978). Also, environmental objections that could be raised at the SDEIS stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the Final Environmental Impact Statement.

To assist the Forest Service in identifying and considering issues and concerns on the proposed action, comments on the SDEIS should be as specific as possible. It is also helpful if comments refer to specific pages or chapters of the SDEIS. Comments may also address the adequacy of the SDEIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21).

Dated: January 13, 2010.
Tom Quinn,
Forest Supervisor.

[FR Doc. 2010-1035 Filed 1-20-10; 8:45 am]

BILLING CODE 3410-11-M